DEPARTMENT OF COMMERCE

International Trade Administration

[C-475-821]

Stainless Steel Wire Rod From Italy: Extension of Time Limit for Preliminary Results of Five-Year Sunset Review

AGENCY: Import Administration, International Trade Administration, Department of Commerce.

ACTION: Notice of extension of time limit for preliminary results of five-year (“Sunset”) review: stainless steel wire rod from Italy.

SUMMARY: The Department of Commerce (“the Department”) is extending the time limit for preliminary results in the full sunset review of the countervailing duty order on stainless steel wire rod (“SSWR”) from Italy.¹ The Department intends to issue preliminary results of this sunset review on or before February 19, 2004. In addition, the Department intends to issue its final results of review not later than 120 days after the date of publication in the Federal Register of the preliminary results.

¹ The Department normally will issue its preliminary results in a full sunset review not later than 110 days after the date of publication in the Federal Register of the notice of initiation. However, if the Secretary determines that a full sunset review is extraordinarily complicated under section 751(c)(5)(C) of the Act, the Secretary may extend the period for issuing final results by not more than 90 days. See section 751(c)(5)(B) of the Act.

EFFECTIVE DATE: November 25, 2003.

FOR FURTHER INFORMATION CONTACT: Martha V. Douthit or Kelly Parkhill, Import Administration, International Trade Administration, U.S. Department of Commerce, 14th Street & Constitution Avenue, NW., Washington, DC 20230; telephone: (202) 482-5050 or (202-482-3791.

Extension of Preliminary

On August 1, 2003, the Department initiated a sunset review of the countervailing duty order on SSWR from Italy.² The Department, in this proceeding, determined to conduct a full (240 day) sunset review of this order based on adequate responses to the notice of initiation on SSWR from Italy from the domestic and respondent interested parties. The Department's preliminary results of this review are scheduled for November 19, 2003. However, several issues have arisen regarding the recent revocation of the order with respect to Cogne Acciai Speciali S.r.l. (“CAS”) and its effect on this sunset review.³

² See Initiation of Five-Year (Sunset) Reviews, 68 FR 45219 (August 1, 2003).

³ See Notice of Implementation Under Section 129 of the Uruguay Round Agreements Act: Countervailing Measures Concerning Certain Steel Products From the European Communities, 68 FR 64858 (November 17, 2003).

Because of the complex issues in this proceeding, the Department has determined to extend the deadline. We are therefore extending the period for issuing preliminary results by 90 days pursuant to section 751(c)(5)(B) of the Act). Thus, the Department intends to issue the preliminary results not later than February 19, 2004, in accordance with section 751(c)(5)(B) of the Act. Final results of this sunset review will be issued not later than 120 days after the date of publication in the Federal Register of the preliminary results.

Dated: November 19, 2003.
James J. Jochum,
Assistant Secretary for Import Administration.

[FR Doc. 03-29435 Filed 11-24-03; 8:45 am]

BILLING CODE 3510-DS-P